DEPARTMENT OF ENERGY

Federal Energy Regulatory Commission

[Docket No. AD12-7-000]

Southwestern Gas Storage Technical Conference; Notice of Public Conference

Take notice that on February 16, 2012 at 9 a.m. MST, the Staff of the Federal Energy Regulatory Commission (FERC or Commission) will convene a technical conference with interested parties to discuss issues related to natural gas storage development in the southwestern United States. The conference will be held at the Radisson Fort McDowell Resort, 10438 North Fort McDowell Rd., Scottsdale, AZ 85264 (http://www.radissonfortmcdowellresort.com).

As discussed in more detail in the joint FERC and NERC Report on Outages and Curtailments During the Southwest Cold Weather Event of February 1-5, 2011: Causes and Recommendations, “[a]dditional gas storage capacity in the downstream market areas closer to demand centers in Arizona and New Mexico could have prevented most of the outages that occurred by making additional supply available in a more timely manner during peak demand periods.” The Commission is interested in exploring the potential of storage development in the Southwest,¹ and this technical conference will provide information useful to the Commission as it reviews its current policies on storage proposals.

¹ The joint report focused on the natural gas and electricity shortages that occurred in the Southwest in early February 2011 and seriously affected three states: Arizona, New Mexico and Texas. However, for the purpose of this conference the Southwest is generally defined as west Texas, New Mexico, Arizona, southern Nevada and southern California.

In order to more clearly focus the discussion at the conference, potential presenters should consider the following questions and present their responses at the conference:

What potential projects are currently under consideration by the industry for developing gas storage in the Southwest?

What new policies can the Commission institute that would help incent storage development?

What types of storage services are necessary or envisioned? Who will contract for these services?

What type of storage facilities can physically be constructed (i.e. salt cavern, depleted oil/gas reservoirs, aquifer type, etc.)?

What environmental and cultural resources issues would affect the development of gas storage facilities in the Southwest?

Persons interested in speaking or making a presentation should indicate their interest no later than January 5, 2012 and should refer to Docket No. AD12-7-000. Each request to participate must include the name of a contact person, who they represent, and their telephone number and email address. There is no need to provide advance notice to the Commission simply to attend the conference.

Comments addressing or identifying Southwestern natural gas storage issues may also be filed by January 12, 2012. Every effort will be made to accommodate requests to make presentations, but depending on the number of requests received, a limit may have to be placed on the number of presenters and the time allowed for presentations. To provide for a more productive conference, where practicable interested persons/parties should coordinate their efforts and choose one spokesperson to make a statement on behalf of a group where interests coincide.

In a subsequent notice, we will provide further details on the conference, including the agenda and a list of participants, as plans evolve. For additional information, please contact Berne Mosley in the Office of Energy Projects, phone: (202) 502-8700, email: berne.mosley@ferc.gov.

Dated: December 13, 2011.
Kimberly D. Bose,
Secretary.

[FR Doc. 2011-32373 Filed 12-16-11; 8:45 am]

BILLING CODE 6717-01-P